DEPARTMENT OF THE TREASURY

Internal Revenue Service

Open Meeting of the Taxpayer Advocacy Panel Ad Hoc Committee

ACTION: Notice.

SUMMARY: An open meeting of the Taxpayer Advocacy Panel Ad Hoc Committee will be conducted (via teleconference).

DATES: The meeting will be held Thursday, December 5, 2002.

FOR FURTHER INFORMATION CONTACT: Anne Gruber at 1-888-912-1227, or 206-220-6095.

SUPPLEMENTARY INFORMATION: Notice is hereby given pursuant to section 10(a)(2) of the Federal Advisory Committee Act, 5 U.S.C. App. (1988) that an open meeting of the Taxpayer Advocacy Panel Ad Hoc Committee will be held Thursday, December 5, 2002, from 1 pm p.s.t. to 3 pm p.s.t. via a telephone conference call. The public is invited to make written comments. If you would like to have the TAP consider a written statement, please call 1-888-912-1227 or 206-220-6095, or write Anne Gruber, TAP Office, 915 2nd Ave, M/S W406, Seattle, WA 98174, or e-mail cap_4@mindspring.com. Due to limited conference lines, notification of intent to participate in the telephone conference call meeting must be made with Anne Gruber. Ms. Gruber can be reached at 1-888-912-1227 or 206-220-6095, or e-mail cap_4@mindspring.com.

The agenda will include the following: various IRS issues.

Note: Last minute changes to the agenda are possible and could prevent effective advance notice.

Dated: November 13, 2002.
Cathy Vanhorn,
Director, Communication and Liaison.

[FR Doc. 02-29921 Filed 11-22-02; 8:45 am]

BILLING CODE 4830-01-P